DEPARTMENT OF COMMERCE

Bureau of Economic Analysis

Submission for OMB Review; Comment Request

The Department of Commerce will submit to the Office of Management and Budget (OMB) for clearance the following proposal for collection of information under the provisions of the Paperwork Reduction Act (44 U.S.C. Chapter 35).

Agency: Bureau of Economic Analysis (BEA), Commerce.

Title: Annual Survey of Foreign Direct Investment in the United States.

OMB Control Number: 0608-0034.

Form Number: BE-15.

Type of Request: Regular submission.

Estimated Number of Respondents: 4,800 annually, of which approximately 1,800 file A forms, 1,100 file B forms, 1,400 file C forms, and 500 file Claims for Exemption.

Estimated Total Annual Burden Hours: 87,450 hours. Total annual burden is calculated by multiplying the estimated number of submissions of each form by the average hourly burden per form, which is 44.5 hours for the A form, 4 hours for the B form, 1.75 hours for the C form, and 1 hour for the Claim for Exemption form.

Estimated Time per Respondent: 18.2 hours per respondent (87,450 hours/4,800 respondents) is the average, but may vary considerably among respondents because of differences in company structure, size, and complexity.

Needs and Uses: The Annual Survey of Foreign Direct Investment in the United States (Form BE-15) collects financial and operating data covering the operations of U.S. affiliates of foreign parents, including their balance sheets, income statements, property, plant and equipment, employment and employee compensation, merchandise trade, sales of goods and services, taxes, and research and development activity. The BE-15 is a sample survey that covers U.S. affiliates of foreign parents above a size-exemption level. The sample data are used to derive universe estimates in nonbenchmark years by extrapolating forward similar data reported in the BE-12, Benchmark Survey of Foreign Direct Investment in the United States, which is conducted every five years.

The data from the survey are primarily intended as general purpose statistics. They should be readily available to answer any number of research and policy questions related to foreign direct investment in the U.S.

Affected Public: Businesses or other for-profit organizations.

Frequency: Annual.

Respondent's Obligation: Mandatory.

This information collection request may be viewed at www.reginfo.gov. Follow the instructions to view Department of Commerce collections currently under review by OMB.

Written comments and recommendations for the proposed information collection should be sent within 30 days of publication of this notice to OIRA Submission@omb.eop.gov or fax to (202) 395-5806.

Dated: August 20, 2015.
Glenna Mickelson,
Management Analyst, Office of the Chief Information Officer.

[FR Doc. 2015-20981 Filed 8-24-15; 8:45 am]

BILLING CODE 3510-06-P